Notice of August 6, 2025

Continuation of the National Emergency With Respect to the Advancement by Countries of Concern in Sensitive Technologies and Products Critical for the Military, Intelligence, Surveillance, or Cyber-Enabled Capabilities of Such Countries

On August 9, 2023, by Executive Order 14105, the President declared a national emergency pursuant to the International Emergency Economic Powers Act (50 U.S.C. 1701 et seq.) to deal with the unusual and extraordinary threat to the national security of the United States constituted by the advancement by countries of concern in sensitive technologies and products critical for the military, intelligence, surveillance, or cyber-enabled capabilities of such countries. As described in Executive Order 14105, this threat to the national security of the United States has its source in whole or substantial part outside the United States, and certain United States investments risk exacerbating this threat.

Certain ongoing activities, such as the comprehensive, long-term strategies of countries of concern that direct, facilitate, or otherwise support advancements in sensitive technologies and products that are critical to such countries' military, intelligence, surveillance, or cyber-enabled capabilities, significantly enhance such countries' ability to conduct activities that threaten the national security of the United States. As part of this ongoing strategy of advancing the development of these sensitive technologies and products, countries of concern are exploiting or have the ability to exploit certain United States outbound investments, including certain intangible benefits that often accompany United States investments and that help companies succeed. Such investments risk exacerbating this threat to United States national security.

For this reason, the national emergency declared in Executive Order 14105 of August 9, 2023, must continue in effect beyond August 9, 2025. Therefore, in accordance with section 202(d) of the National Emergencies Act (50 U.S.C. 1622(d)), I am continuing for 1 year the national emergency declared in Executive Order 14105 with respect to the threat posed by the advancement by countries of concern in sensitive technologies and products critical for the military, intelligence, surveillance, or cyber-enabled capabilities of such countries.

This notice shall be published in the Federal Register and transmitted to the Congress.

THE WHITE HOUSE,

August 6, 2025.

[FR Doc. 2025-15194

Filed 8-7-25; 11:15 am]

Billing code 3395-F4-P